DEPARTMENT OF HEALTH AND HUMAN SERVICES

National Institutes of Health

Center for Scientific Review; Amended Notice of Meeting

Notice is hereby given of a change in the meeting of the Center for Scientific Review Special Emphasis Panel, Skeletal Biology and Regeneration Overflow, October 9, 2013, 06:30 a.m. to October 9, 2013, 07:30 a.m., Admiral Fell Inn, 888 South Broadway, Baltimore, MD, 21231 which was published in the Federal Register on October 3, 2013, 78 FR 61376.

The meeting will be held on November 19, 2013 6:30 p.m. to 7:30 p.m. The meeting location remains the same. The meeting is closed to the public.

Dated: October 28, 2013.
Anna Snouffer,
Program Analyst, Office of Federal Advisory Committee Policy.

[FR Doc. 2013-25913 Filed 10-30-13; 8:45 am]

BILLING CODE 4140-01-P